DEPARTMENT OF ENERGY

Federal Energy Regulatory Commission

[Project Nos. 7387-068-9222-033]

Erie Boulevard Hydropower, L.P.; Notice of Application Accepted for Filing, Soliciting Comments, Protests and Motions To Intervene

Take notice that the following hydroelectric application has been filed with the Commission and is available for public inspection:

a. Type of Proceeding: Amendment of License Terms.

b. Project Nos.: P-7387-068 & P-9222-033.

c. Date Filed: May 12, 2017.

d. Licensee: Erie Boulevard Hydropower, L.P.

e. Names and Locations of Projects: Piercefield Hydroelectric Project No. 7387, located on the Raquette River in St. Lawrence and Franklin counties, New York. Yaleville Hydroelectric Project No. 9222, located on the Raquette River, in St. Lawrence County, New York.

f. Filed Pursuant to: Federal Power Act, 16 U.S.C. 791a-825r.

g. Licensee Contact Information: Mr. Steven P. Murphy, Director, U.S. Licensing, Brookfield Renewable, 33 West 1st Street South, Fulton, New York 13069, Phone: (315) 598-6130, Email: steven.murphy@brookfieldrenewable.com

h. FERC Contact: Mr. Ashish Desai, (202) 502-8370, Ashish.Desai@ferc.gov.

i. Deadline for filing comments, motions to intervene and protests, is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket numbers P-7387-068 and P-9222-033.

j. Description of Proceeding: The licensee, Erie Boulevard Hydropower, L.P., requests that the Commission amend the license terms for two of its projects to synchronize the license expiration dates with the licensee's four other projects, so that they can be relicensed concurrently. The other four projects' licenses expire on December 31, 2033. All six projects are located on the Raquette River.

In order to align the expiration dates, the licensee requests that the Commission extend the license for the Yaleville Project No. 9222, approximately 12 years, from January 31, 2022 to December 31, 2033. In addition, the licensee requests that the Commission accelerate the license expiration term for the Piercefield Project No. 7387 by 10 years, from October 31, 2045 to October 31, 2035.

The licensee states that amending the license terms for the two projects would allow for better coordination during project relicensing for all of its projects on the Raquette River. The licensee's request includes letters of support for the amendments of the license terms from the U.S. Fish and Wildlife Service, New York State Department of Environmental Conservation, and Adirondack Mountain Club.

k. This notice is available for review and reproduction at the Commission in the Public Reference Room, Room 2A, 888 First Street NE., Washington, DC 20426. The filing may also be viewed on the Commission's Web site at http://www.ferc.gov/docs-filing/elibrary.asp. Enter the Docket number (P-7387-068 or P-9222-033) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the request for the amendment of the license terms. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 23, 2017.
Nathaniel J. Davis, Sr.,
Deputy Secretary.

[FR Doc. 2017-13603 Filed 6-28-17; 8:45 am]

BILLING CODE 6717-01-P